DEPARTMENT OF DEFENSE

Office of the Secretary

32 CFR Part 199

RIN 0720-AA86

Coordination of Benefits Between TRICARE and the Department of Veterans Affairs

AGENCY: Department of Defense.

ACTION: Final rule; withdrawal.

SUMMARY: The Department of Defense published a final rule on Coordination of Benefits Between TRICARE and the Department of Veterans Affairs. This rule should not have been published in accordance with the Regulatory Review Plan, therefore, this document is published to withdraw the rule. It will, however, be republished upon approval by the Office of Management and Budget.

DATES: The rule published on Tuesday, August 19, 2003 is withdrawn as of Tuesday, August 19, 2003.

FOR FURTHER INFORMATION CONTACT: L.M. Bynum 703-601-4722 ext. 109.

Dated: August 21, 2003.
L.M. Bynum,
Alternate OSD Federal Register Liaison, Department of Defense.

[FR Doc. 03-21987 Filed 8-27-03; 8:45 am]

BILLING CODE 5001-03-M